DEPARTMENT OF HEALTH AND HUMAN SERVICES

[Docket: CDC-2012-0010]

42 CFR Part 73

Influenza Viruses Containing the Hemagglutinin From the Goose/Guangdong/1/96 Lineage

AGENCY: Centers for Disease Control and Prevention (CDC), Department of Health and Human Services (HHS).

ACTION: Request for information; reopening of comment period.

SUMMARY: With this notice, the Centers for Disease Control and Prevention (CDC), located within the Department of Health and Human Services (HHS) announces the re-opening of a public comment period for a request for information and comment published on October 17, 2012. The request for information sought information and comments from the public regarding whether highly pathogenic avian influenza (HPAI) H5N1 viruses that contain a hemagglutinin (HA) from the Goose/Guangdong/1/96 lineage, and their potential to pose a severe threat to public health and safety. The comment period closed on December 17, 2012. We are reopening the comment period to allow interested persons additional time to prepare and submit comments.

DATES: Written or electronic comments must be received on or before March 11, 2013.

ADDRESSES: You may submit comments, identified by Docket Number CDC-2012-0010, by any of the following methods

• Federal eRulemaking Portal: http://www.regulations.gov. Follow the instructions for submitting comments.

• Mail: Centers for Disease Control and Prevention, Select Agent Program, 1600 Clifton Road NE., Mailstop A-46, Atlanta, Georgia 30333, ATTN: Docket No. CDC-2012-0010.

Instructions: All submissions received must include the agency name and RIN for this rulemaking. All relevant comments received will be posted without change to http://www.regulations.gov, including any personal information provided.

Docket Access: For access to the docket to read background documents or comments received or to download an electronic version of the NPRM, go to http://www.regulations.gov. Comments will be available for public inspection Monday through Friday, except for legal holidays, from 9 a.m. until 5 p.m. at 1600 Clifton Road NE., Atlanta, GA, 30333. Please call ahead to 1-866-694-4867 and ask for a representative in the Division of Select Agents and Toxins to schedule your visit. Our general policy for comments and other submissions from members of the public is to make these submissions available for public viewing on the Internet as they are received and without change.

FOR FURTHER INFORMATION CONTACT: Robbin Weyant, Director, Division of Select Agents and Toxins, Centers for Disease Control and Prevention, 1600 Clifton Road NE., MS A-46, Atlanta, Georgia 30333. Telephone: (404) 718-2000.

SUPPLEMENTARY INFORMATION: On October 17, 2012, the Centers for Disease Control and Prevention(CDC), located within the Department of Health and Human Services (HHS) published a request for information and comment in the Federal Register (77 FR 63783) to obtain information and comments from the public to questions concerning highly pathogenic avian influenza (HPAI) H5N1 viruses that contain a hemagglutinin (HA) from the Goose/Guangdong/1/96 lineage, and their potential to pose a severe threat to public health and safety. The comment period closed on December 17, 2012. We have re-opened the comment period to allow interested persons additional time to prepare and submit comments. We will also accept comments received between December 18, 2012 (the day after the close of the original comment period) and the date of this notice.

Dated: February 4, 2013.
Kathleen Sebelius,
Secretary.

[FR Doc. 2013-02828 Filed 2-7-13; 8:45 am]

BILLING CODE 4163-18-P